LEGAL SERVICES CORPORATION

Sunshine Act Meeting of the Board of Directors Operations & Regulations Committee

Time and Date: The Operations & Regulations Committee of the Legal Services Corporation Board of Directors will meet on November 22, 2003. The meeting will begin at 10 a.m. and continue until the Committee concludes its agenda.

Location: The Association of the Bar of the City of New York, 42 West 44th Street, New York, NY 10036.

Status of Meeting: Open.

Matters to be Considered: 1. Approval of agenda.

2. Approval of the Committee's meeting minutes of September 14, 2003.

3. Consider and act on recommendation to make to the Board of Directors regarding adoption of proposed revisions to 45 CFR Part 1604, LSC's regulation on Outside Practice of Law.

4. Consider and act on whether to undertake any further rulemaking activities prior to appointment of a new President for LSC.

5. Public comment.

6. Consider and act on other business.

7. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: November 13, 2003.
Victor M. Fortuno,
Vice President for Legal Affairs, General Counsel & Corporate Secretary.

[FR Doc. 03-28857 Filed 11-13-03; 5:01 pm]

BILLING CODE 7050-01-P